DEPARTMENT OF ENERGY

Federal Energy Regulatory Commission

Combined Notice of Filings #1

August 12, 2005.

Take notice that the Commission received the following electric rate filings:

Docket Numbers: ER03-770-002.

Applicants: AIG Energy Inc.

Description: AIG Energy, Inc. submits its triennial updated market analysis and revised sheets to its market-based rate tariff.

Filed Date: 07/27/2005.

Accession Number: 20050728-0192.

Comment Date: 5 p.m. eastern time on Wednesday, August 17, 2005.

Docket Numbers: ER05-859-002.

Applicants: ATPower & Energy, LLC.

Description: ATPower & Energy, LLC submits a further amendment to its petition for acceptance of its Initial Rate Schedule FERC No. 1, the granting of certain waivers and the granting of certain blanket approvals filed on 4/25/05, as amended on 6/9/05.

Filed Date: 08/08/2005.

Accession Number: 20050809-0145.

Comment Date: 5 p.m. eastern time on Thursday, August 19, 2005.

Docket Numbers: ER05-1189-001.

Applicants: Carolina Power & Light Company.

Description: Progress Energy, Inc., on behalf of its subsidiary Carolina Power & Light Company (CP&L) d/b/a Progress Energy Carolinas, Inc., submits the original executed copy of the amendments to the 1981 Power Coordination Agreement contained in Attachment B of its 7/1/05 filing in Docket No. ER05-1189-000.

Filed Date: 07/06/2005.

Accession Number: 20050708-0047.

Comment Date: 5 p.m. eastern time on Friday, August 19, 2005.

Docket Numbers: ER05-1286-000.

Applicants: Pacific Gas & Electric Company.

Description: Pacific Gas & Electric Company submits revised interconnection agreement between Pacific gas and Electric Company and Modesto Irrigation District.

Filed Date: 08/03/2005.

Accession Number: 20050811-0266.

Comment Date: 5 p.m. eastern time on Wednesday, August 24, 2005.

Docket Numbers: ER05-1288-000.

Applicants: Wheelabrator North Andover Inc.

Description: Petition of Wheelabrator North Andover Inc. for order accepting market-based rate tariff for filing, granting waiver of certain Commission regulations; and granting certain blanket approvals.

Filed Date: 08/03/2005.

Accession Number: 20050805-0169.

Comment Date: 5 p.m. eastern time on Wednesday, August 24, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-4539 Filed 8-18-05; 8:45 am]

BILLING CODE 6717-01-P